FEDERAL HOUSING FINANCE BOARD

[No. 2006-N-07]

Federal Home Loan Bank Members Selected for Community Support Review

AGENCY: Federal Housing Finance Board.

ACTION: Notice.

SUMMARY: The Federal Housing Finance Board (Finance Board) is announcing the Federal Home Loan Bank (Bank) members it has selected for the 2006-07 third quarter review cycle under the Finance Board's community support requirements regulation. This notice also prescribes the deadline by which Bank members selected for review must submit Community Support Statements to the Finance Board.

DATES: Bank members selected for the review cycle under the Finance Board's community support requirements regulation must submit completed Community Support Statements to the Finance Board on or before November 24, 2006.

ADDRESSES: Bank members selected for the 2006-07 third quarter review cycle under the Finance Board's community support requirements regulation must submit completed Community Support Statements to the Finance Board either by regular mail at the Federal Housing Finance Board, Office of Supervision, Community Investment and Affordable Housing, 1625 Eye Street, NW., Washington, DC 20006, or by electronic mail at FITZGERALDE@FHFB.GOV.

FOR FURTHER INFORMATION CONTACT: Emma J. Fitzgerald, Program Analyst, Office of Supervision, Community Investment and Affordable Housing, by telephone at 202/408-2874, by electronic mail at FITZGERALDE@FHFB.GOV, or by regular mail at the Federal Housing Finance Board, 1625 Eye Street, NW., Washington, DC 20006.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to section 10(g) of the Bank Act, the Finance Board has promulgated a community support requirements regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the November 24, 2006 deadline prescribed in this notice. 12 CFR 944.2(b)(1)(ii) and (c). On or before October 27, 2006, each Bank will notify the members in its district that have been selected for the 2006-07 third quarter community support review cycle that they must complete and submit to the Finance Board by the deadline a Community Support Statement. 12 CFR 944.2(b)(2)(i). The member's Bank will provide a blank Community Support Statement Form, which also is available on the Finance Board's Web site: WWW.FHFB.GOV.

Upon request, the member's Bank also will provide assistance in completing the Community Support Statement.

The Finance Board has selected the following members for the 2006-07 third quarter community support review cycle:

Member | City | State
Federal Home Loan Bank of Boston—District 1
Collinsville Savings Society | Canton | Connecticut
The Guilford Savings Bank | Guilford | Connecticut
Northwest Community Bank | Winsted | Connecticut
Bar Harbor Bank and Trust | Bar Harbor | Maine
Calais Federal Savings and Loan Association | Calais | Maine
Camden National Bank | Camden | Maine
Damariscotta Bank & Trust Company | Damariscotta | Maine
Franklin Savings Bank | Farmington | Maine
Katahdin Trust Company | Patten | Maine
TD Banknorth, N.A | Portland | Maine
Rockland Savings and Loan Association | Rockland | Maine
Athol Savings Bank | Athol | Massachusetts
Capital Crossing Bank | Boston | Massachusetts
OneUnited Bank | Boston | Massachusetts
Security Federal Savings Bank | Brockton | Massachusetts
Bank of Canton | Canton | Massachusetts
Clinton Savings Bank | Clinton | Massachusetts
Danvers Savings Bank | Danvers | Massachusetts
Lafayette Federal Savings Bank | Fall River | Massachusetts
Family Federal Savings F.A | Fitchburg | Massachusetts
Florence Savings Bank | Florence | Massachusetts
Colonial Co-operative Bank | Gardner | Massachusetts
Hingham Institution for Savings | Hingham | Massachusetts
Peoples Bank | Holyoke | Massachusetts
Roxbury Highland Co-operative Bank | Jamaica Plain | Massachusetts
Equitable Co-operative Bank | Lynn | Massachusetts
Mansfield Co-operative Bank | Mansfield | Massachusetts
Milford Federal Savings and Loan Association | Milford | Massachusetts
Northampton Cooperative Bank | Northampton | Massachusetts
Hometown Bank, a Cooperative Bank | Oxford | Massachusetts
Colonial Federal Savings Bank | Quincy | Massachusetts
Reading Co-operative Bank | Reading | Massachusetts
South Shore Savings Bank | South Weymouth | Massachusetts
Southbridge Savings Bank | Southbridge | Massachusetts
Mechanics Cooperative Bank | Taunton | Massachusetts
Bow Mills Bank and Trust | Bow | New Hampshire
Citizens Bank New Hampshire | Manchester | New Hampshire
Newport Federal Savings Bank | Newport | Rhode Island
Merchants Bank | Burlington | Vermont
National Bank of Middlebury | Middlebury | Vermont
Union Bank | Morrisville | Vermont
Northfield Savings Bank | Northfield | Vermont
Federal Home Loan Bank of New York—District 2
Audubon Savings Bank | Audubon | New Jersey
Bogota Savings Bank | Bogota | New Jersey
Peoples Savings Bank | Bown | New Jersey
Century Savings Bank | Bridgeton | New Jersey
Colonial Bank FSB | Bridgeton | New Jersey
Sturdy Savings Bank | Cape May Court House | New Jersey
NVE Bank | Englewood | New Jersey
Kearny Federal Savings Bank | Fairfield | New Jersey
Roma Bank | Hamilton | New Jersey
Glen Rock Savings Bank | Hawthorne | New Jersey
Schuyler Savings Bank | Kearny | New Jersey
Lincoln Park Savings | Lincoln Park | New Jersey
Metuchen Savings Bank | Metuchen | New Jersey
Boiling Springs Savings Bank | Rutherford | New Jersey
Gloucester County Federal Savings Bank | Sewell | New Jersey
Penn Federal Savings Bank | West Orange | New Jersey
Independence Community Bank | Brooklyn | New York
Elmira Savings Bank, FSB | Elmira | New York
Evans National Bank | Hamburg | New York
Cattaraugus County Bank | Little Valley | New York
Chinatown Federal Savings Bank | New York | New York
Abacus Federal Savings Bank | New York | New York
Wallkill Valley FS&LA | Wallkill | New York
Doral Bank | San Juan | Puerto Rico
Oriental Bank & Trust | San Juan | Puerto Rico
Federal Home Loan Bank of Pittsburgh—District 3
Altoona First Savings Bank | Altoona | Pennsylvania
Pennsylvania State Bank | Camp Hill | Pennsylvania
Coatesville Savings Bank | Coatesville | Pennsylvania
Slovenian S&LA of Franklin-Conemaugh | Conemaugh | Pennsylvania
First National Community Bank | Dunmore | Pennsylvania
Halifax National Bank | Halifax | Pennsylvania
Peoples National Bank | Hallstead | Pennsylvania
Polonia Bank | Huntingdon Valley | Pennsylvania
Mauch Chunk Trust Company | Jim Thorpe | Pennsylvania
1st Summit Bank | Johnstown | Pennsylvania
Mifflinburg Bank & Trust Company | Mifflinburg | Pennsylvania
Union National Community Bank | Mount Joy | Pennsylvania
The Muncy Bank and Trust Company | Muncy | Pennsylvania
First Penn Bank | Philadelphia | Pennsylvania
United-American Savings Bank | Pittsburgh | Pennsylvania
Eureka Bank | Pittsburgh | Pennsylvania
Slovak Savings Bank | Pittsburgh | Pennsylvania
Iron and Glass Bank | Pittsburgh | Pennsylvania
Scottdale Bank and Trust Company | Scottdale | Pennsylvania
Hamlin Bank and Trust Company | Smethport | Pennsylvania
Northwest Savings Bank | Warren | Pennsylvania
Peoples State Bank of Wyalusing | Wyalusing | Pennsylvania
Leesport Bank | Wyomissing | Pennsylvania
City National Bank of West Virginia | Cross Lanes | West Virginia
Citizens Bank of Morgantown | Morgantown | West Virginia
First National Bank | Ronceverte | West Virginia
Federal Home Loan Bank of Atlanta—District 4
The Exchange Bank of Alabama | Altoona | Alabama
First Commercial Bank | Birmingham | Alabama
Capital South Bank | Birmingham | Alabama
Central State Bank | Calera | Alabama
The Camden National Bank | Camden | Alabama
Frontier Bank | Chelsea | Alabama
SunSouth Bank | Dothan | Alabama
The Southern Bank Company | Gadsden | Alabama
First National Bank | Hamilton | Alabama
The Headland National Bank | Headland | Alabama
First State Bank | Lineville | Alabama
First Citizens Bank | Luverne | Alabama
First Tuskegee Bank | Montgomery | Alabama
Citizens Bank, Inc | Robertsdale | Alabama
The Slocomb National Bank | Slocomb | Alabama
The Bank of Tuscaloosa | Tuscaloosa | Alabama
First Liberty National Bank | Washington | D. C.
BankAtlantic | Fort Lauderdale | Florida
Natbank, N.A | Hollywood | Florida
FirstBank Florida | Miami | Florida
Eagle National Bank of Miami | Miami | Florida
BankUnited, FSB | Miami Lakes | Florida
Orion Bank | Naples | Florida
Urban Trust Bank | Orlando | Florida
First Federal Bank of North Florida | Palatka | Florida
Bay Bank and Trust | Panama City | Florida
Federal Trust Bank | Sanford | Florida
BankTrust | Santa Rosa Beach | Florida
Capital City Bank | Tallahassee | Florida
Bay Financial Savings Bank, F.S.B | Tampa | Florida
Wauchula State Bank | Wauchula | Florida
Bank of Alapaha | Alapaha | Georgia
Citizens Bank of Americus | Americus | Georgia
The Summit National Bank | Atlanta | Georgia
Georgia Bank and Trust Company of Augusta | Augusta | Georgia
Planters & Citizens Bank | Camilla | Georgia
Newton Federal Bank | Covington | Georgia
First National Bank of Coffee County | Douglas | Georgia
Citizens Bank and Trust Company | Eastman | Georgia
Farmers and Merchants Bank | Eatonton | Georgia
Elberton Federal Savings & Loan Association | Elberton | Georgia
Central Bank of Georgia | Ellaville | Georgia
BankSouth | Greensboro | Georgia
Crescent Bank & Trust Company | Jasper | Georgia
Pineland State Bank | Metter | Georgia
Exchange Bank | Milledgeville | Georgia
Gateway Bank and Trust | Ringgold | Georgia
The Coastal Bank | Savannah | Georgia
Farmers and Merchants Bank | Statesboro | Georgia
Spivey State Bank | Swainsboro | Georgia
Commercial Bank | Thomasville | Georgia
First Federal Savings and Loan Association | Valdosta | Georgia
Severn Savings Bank, F.S.B | Annapolis | Maryland
Wilmington Trust FSB | Baltimore | Maryland
Saint Casimirs Savings Bank | Baltimore | Maryland
Fraternity Federal S&L Association | Baltimore | Maryland
Hamilton Federal Bank | Baltimore | Maryland
Homewood Federal Savings Bank | Baltimore | Maryland
Advance Bank | Baltimore | Maryland
United Medical Bank | Baltimore | Maryland
Provident Bank of Maryland | Baltimore | Maryland
Presidential Bank, FSB | Bethesda | Maryland
The Peoples Bank | Chestertown | Maryland
The Talbot Bank of Easton | Easton | Maryland
The Peoples Bank of Elkton | Elkton | Maryland
Madison Bohemian Savings Bank | Forest Hills | Maryland
Eastern Savings Bank, FSB | Hunt Valley | Maryland
Hunt Valley | Owings Mills | Maryland
K Bank | Owings Mills | Maryland
Baltimore County Savings Bank, FSB | Perry Hall | Maryland
First Shore FS&L Association | Salisbury | Maryland
American Bank | Silver Spring | Maryland
Sykesville Federal Savings Association | Sykesville | Maryland
AmericasBank | Towson | Maryland
Home Trust Bank | Asheville | North Carolina
High Point Bank & Trust Company | High Point | North Carolina
BB & T of NC | Lumberton | North Carolina
RBC Centura Bank | Rocky Mount | North Carolina
Piedmont Federal Savings & Loan Association | Winston Salem | North Carolina
First Palmetto Savings Bank, FSB | Camden | South Carolina
Spratt Savings and Loan Association | Chester | South Carolina
Plantation Federal Bank | Pawleys Island | South Carolina
Woodruff Federal Savings & Loan Association | Woodruff | South Carolina
Virginia Commerce Bank | Arlington | Virginia
First and Citizens Bank | Monterey | Virginia
Shore Bank | Onley | Virginia
First Federal Savings Bank of Virginia | Petersburg | Virginia
Community Bank | Staunton | Virginia
EVB | Tappahannock | Virginia
Federal Home Loan Bank of Cincinnati—District 5
Kentucky Home Bank, Inc | Bardstown | Kentucky
Bank of Clarkson | Clarkson | Kentucky
Citizens Federal Savings and Loan Association of Covington | Covington | Kentucky
South Central Bank, FSB | Edmonton | Kentucky
Fredonia Valley Bank | Fredonia | Kentucky
First Southern National Bank | Lancaster | Kentucky
Bank of the Bluegrass & Trust Company | Lexington | Kentucky
First Federal Bank | Lexington | Kentucky
Peoples Security Bank | Louisa | Kentucky
The First Capital Bank of Kentucky | Louisville | Kentucky
First FS&LA of Morehead | Morehead | Kentucky
Traditional Bank, Inc | Mt. Sterling | Kentucky
Commonwealth Bank, F.S.B | Mt. Sterling | Kentucky
Farmers Bank & Trust Company, Inc | Princeton | Kentucky
Farmers National Bank | Walton | Kentucky
Belmont Savings Bank | Bellaire | Ohio
The Citizens National Bank of Bluffton | Bluffton | Ohio
The Brookville Building and Savings Association | Brookville | Ohio
First Federal Community Bank of Bucyrus | Bucyrus | Ohio
New Foundation Loan and Building Company | Cincinnati | Ohio
Warsaw Federal S&LA of Cincinnati | Cincinnati | Ohio
The Franklin Savings and Loan Company | Cincinnati | Ohio
Columbia Savings Bank | Cincinnati | Ohio
Third FS&LA of Cleveland | Cleveland | Ohio
Charter One Bank, N.A | Cleveland | Ohio
United Midwest Savings Bank | DeGraff | Ohio
Hicksville Building, Loan and Savings Bank | Hicksville | Ohio
Merchants National Bank | Hillsboro | Ohio
NCB, FSB | Hillsboro | Ohio
Oak Hills Banks | Jackson | Ohio
Home Savings Bank | Kent | Ohio
First FS&LA of Lakewood | Lakewood | Ohio
Fairfield Federal S&LA of Lancaster | Lancaster | Ohio
1st National Bank | Lebanon | Ohio
Leesburg Federal Savings Bank | Leesburg | Ohio
The First-Knox Bank of Mount Vernon | Mt. Vernon | Ohio
New Carlisle Federal Savings Bank | New Carlisle | Ohio
The Park National Bank | Newark | Ohio
American Savings Bank, fsb | Portsmouth | Ohio
Home City Federal Savings Bank | Springfield | Ohio
Perpetual Federal Savings Bank | Urbana | Ohio
Liberty Savings Bank, F.S.B | Wilmington | Ohio
North Valley Bank | Zanesville | Ohio
Farmers & Merchants Bank | Adamsville | Tennessee
First South Credit Union | Bartlett | Tennessee
Bank of Crockett | Bells | Tennessee
Decatur County Bank | Decaturville | Tennessee
Chester County Bank | Henderson | Tennessee
The Bank of Jackson | Jackson | Tennessee
Wilson Bank and Trust | Lebanon | Tennessee
First National Bank of Tennessee | Livingston | Tennessee
Trust One Bank | Memphis | Tennessee
Citizens Bank | New Tazewell | Tennessee
Newport Federal Bank | Newport | Tennessee
Citizens National Bank | Sevierville | Tennessee
Federal Home Loan Bank of Indianapolis—District 6
Independent Federal Credit Union | Anderson | Indiana
Boonville Federal Savings Bank | Boonville | Indiana
Riddell National Bank | Brazil | Indiana
Union Savings & Loan Association | Connersville | Indiana
First Federal Savings Bank | Evansville | Indiana
Pacesetter Bank | Hartford City | Indiana
Kentland Federal Savings and Loan Association | Kentland | Indiana
La Porte Savings Bank | La Porte | Indiana
Logansport Savings Bank, FSB | Logansport | Indiana
Home Bank, SB | Martinsville | Indiana
Peoples Bank SB | Munster | Indiana
Farmers State Bank | New Ross | Indiana
First Bank Richmond, N.A | Richmond | Indiana
Mid-Southern Savings Bank, FSB | Salem | Indiana
Owen County State Bank | Spencer | Indiana
Grant County State Bank | Swayzee | Indiana
First State Bank, Southwest Indiana | Tell City | Indiana
Liberty Savings Bank, FSB | Whiting | Indiana
Commercial Bank | Alma | Michigan
Fidelity Bank | Birmingham | Michigan
Tri-County Bank | Brown City | Michigan
Monarch Community Bank | Coldwater | Michigan
Paramount Bank | Farmington Hills | Michigan
Select Bank | Grand Rapids | Michigan
Peoples State Bank | Hamtramck | Michigan
Union Bank | Lake Odessa | Michigan
Peoples State Bank of Munising | Munising | Michigan
New Buffalo Savings Bank, FSB | New Buffalo | Michigan
Thumb National Bank & Trust | Pigeon | Michigan
Citizens First Savings Bank | Port Huron | Michigan
Edgewater Bank | St. Joseph | Michigan
First National Bank of Three Rivers | Three Rivers | Michigan
First National Bank of Wakefield | Wakefield | Michigan
Federal Home Loan Bank of Chicago—District 7
First Community Bank and Trust | Beecher | Illinois
First State Bank of Beecher City | Beecher City | Illinois
BankFinancial, F.S.B | Burr Ridge | Illinois
The First National Bank in Carlyle | Carlyle | Illinois
BankChampaign, N.A | Champaign | Illinois
South Central Bank, N.A | Chicago | Illinois
Oak Bank | Chicago | Illinois
NAB Bank | Chicago | Illinois
North Federal Savings Bank | Chicago | Illinois
Labe Bank | Chicago | Illinois
Community Savings Bank | Chicago | Illinois
Washington Federal Bank for Savings | Chicago | Illinois
Pulaski Savings Bank | Chicago | Illinois
West Town Savings Bank | Cicero | Illinois
Family Federal Savings of Illinois | Cicero | Illinois
The John Warner Bank | Clinton | Illinois
Elizabeth State Bank | Elizabeth | Illinois
Flora Bank & Trust | Flora | Illinois
Community Bank—Wheaton/Glen Ellyn | Glen Ellyn | Illinois
Heritage State Bank | Lawrenceville | Illinois
1st State Bank of Mason City | Mason City | Illinois
Mazon State Bank | Mazon | Illinois
McHenry Savings Bank | McHenry | Illinois
City National Bank | Metropolis | Illinois
First National Bank | Moline | Illinois
Brown County State Bank | Mount Sterling | Illinois
Wabash Savings Bank | Mt. Carmel | Illinois
The Farmers Bank of Pulaski | Mt. Pulaski | Illinois
The Herget National Bank of Pekin | Pekin | Illinois
National Bank of Petersburg | Petersburg | Illinois
Citizens State Bank of Shipman | Shipman | Illinois
Marine Bank | Springfield | Illinois
Town & Country Bank of Springfield | Springfield | Illinois
Tremont Savings Bank | Tremont | Illinois
Banner Banks | Birnamwood | Wisconsin
Community First Bank | Boscobel | Wisconsin
North Shore Bank FSB | Brookfield | Wisconsin
Advantage Community Bank | Dorchester | Wisconsin
PremierBank | Fort Atkinson | Wisconsin
Green Lake State Bank | Green Lake | Wisconsin
PyraMax Bank, F.S.B | Greenfield | Wisconsin
Greenleaf Wayside Bank | Greenleaf | Wisconsin
Hustisford State Bank | Hustisford | Wisconsin
Mid America Bank | Janesville | Wisconsin
Union State Bank | Kewaunee | Wisconsin
Bank of Lake Mills | Lake Mills | Wisconsin
BLC Community Bank | Little Chute | Wisconsin
Rural American Bank—Luck | Luck | Wisconsin
AnchorBank, fsb | Madison | Wisconsin
Home Savings Bank | Madison | Wisconsin
The Peoples State Bank | Mazomanie | Wisconsin
Bremer Bank, National Association | Menomonie | Wisconsin
Middleton Community Bank | Middleton | Wisconsin
First Community Bank | Milton | Wisconsin
Milton Savings Bank | Milton | Wisconsin
West Pointe Bank | Oshkosh | Wisconsin
Wisconsin State Bank | Random Lake | Wisconsin
The Reedsburg Bank | Reedsburg | Wisconsin
Dairy State Bank | Rice Lake | Wisconsin
Community Business Bank | Sauk City | Wisconsin
Baylake Bank | Sturgeon Bay | Wisconsin
Superior Savings Bank | Superior | Wisconsin
Farmers & Merchants Bank | Tomah | Wisconsin
The National Bank of Waupun | Waupun | Wisconsin
Maritime Savings Bank | West Allis | Wisconsin
West Bend Savings Bank | West Bend | Wisconsin
First Citizens State Bank | Whitewater | Wisconsin
Federal Home Loan Bank of Des Moines—District 8
Peoples State Bank | Albia | Iowa
Community Bank | Alton | Iowa
Bank Iowa | Altoona | Iowa
First National Bank | Ames | Iowa
Farmers & Traders Savings Bank | Bancroft | Iowa
Chelsea Savings Bank | Belle Plaine | Iowa
Boone Bank & Trust Company | Boone | Iowa
Iowa Prairie Bank | Brunsville | Iowa
Lincoln Savings Bank | Cedar Falls | Iowa
Guaranty Bank & Trust Company | Cedar Rapids | Iowa
Cherokee State Bank | Cherokee | Iowa
First State Bank | Conrad | Iowa
Dubuque Bank & Trust Company | Dubuque | Iowa
First Federal Savings Bank of Iowa | Fort Dodge | Iowa
Mills County Bank N.A | Glenwood | Iowa
Security State Bank | Guttenberg | Iowa
Farmers State Bank | Hawarden | Iowa
First State Bank | Hawarden | Iowa
Bank Iowa, Humboldt | Humboldt | Iowa
State Central Bank | Keokuk | Iowa
Heritage Bank | Marion | Iowa
F & M Bank—Iowa | Marshalltown | Iowa
Sibley State Bank | Sibley | Iowa
MetaBank West Central | Stuart | Iowa
First State Bank | Sumner | Iowa
Farmers Savings Bank & Trust-Vinton | Vinton | Iowa
Webster City Federal Savings Bank | Webster City | Iowa
Community State Bank | West Branch | Iowa
Citizens State Bank | Wyoming | Iowa
Farmers State Bank of Adams | Adams | Minnesota
Bremer Bank, NA | Alexandria | Minnesota
State Bank of Aurora | Aurora | Minnesota
First Federal Savings Bank | Baxter | Minnesota
State Bank of Bellingham | Bellingham | Minnesota
Star Bank | Bertha | Minnesota
Farmers and Merchants State Bank | Blooming Prairie | Minnesota
Highland Bank | Bloomington | Minnesota
First National Bank of Blue Earth | Blue Earth | Minnesota
First National Bank of Deer River | Deer River | Minnesota
The First National Bank of Deerwood | Deerwood | Minnesota
State Bank of Kimball | Kimball | Minnesota
Lake Elmo Bank | Lake Elmo | Minnesota
First National Bank of Le Center | Le Center | Minnesota
First State Bank MN | LeRoy | Minnesota
Community FS&LA | Little Falls | Minnesota
Prairie Sun Bank | Milan | Minnesota
Peoples National Bank of Mora | Mora | Minnesota
Community National Bank | North Branch | Minnesota
Northwoods Bank of Minnesota | Park Rapids | Minnesota
Horizon Bank | Pine City | Minnesota
Prior Lake State Bank | Prior Lake | Minnesota
Minnwest Bank, M.V | Redwood Falls | Minnesota
First Independent Bank | Russell | Minnesota
State Bank of Tower | Tower | Minnesota
Security State Bank of Wanamingo | Wanamingo | Minnesota
Belgrade State Bank | Belgrade | Missouri
Ozark Mountain Bank | Branson | Missouri
O'Bannon Banking Company | Buffalo | Missouri
First National Bank | Camdenton | Missouri
Horizon State Bank | Cameron | Missouri
Canton State Bank | Canton | Missouri
Bank 21 | Carrollton | Missouri
State Bank of Missouri | Concordia | Missouri
Secuirty Bank of the Ozarks | Eminence | Missouri
Rockwood Bank | Eureka | Missouri
Allen Bank & Trust Company | Harrisonville | Missouri
Blue Ridge Bank & Trust Company | Independence | Missouri
Jonesburg State Bank | Jonesburg | Missouri
Missouri Bank & Trust Company | Kansas City | Missouri
Kearney Commercial Bank | Kearney | Missouri
BoulevardBank | Neosho | Missouri
Bank of New Madrid | New Madrid | Missouri
Ozark Bank | Ozark | Missouri
Progressive Ozark Bank, FSB | Salem | Missouri
First National Bank of Sarcoxie | Sarcoxie | Missouri
Security Bank & Trust Company | Scott City | Missouri
Community State Bank | Shelbina | Missouri
Community Bank, NA | Summersville | Missouri
Peoples Bank & Trust Company | Troy | Missouri
Bank of Urbana | Urbana | Missouri
The Missouri Bank | Warrenton | Missouri
Security Bank of Pulaski County | Waynesville | Missouri
FMB Bank | Wright City | Missouri
The First State Bank of North Dakota | Arthur | North Dakota
Security State Bank of North Dakota | Hannaford | North Dakota
The Goose River Bank | Mayville | North Dakota
The First State Bank of Munich | Munich | North Dakota
Liberty State Bank | Powers Lake | North Dakota
Dakota Heritage State Bank | Chancellor | South Dakota
The First Western Bank Custer | Custer | South Dakota
Valley Bank NA | Elk Pointe | South Dakota
Reliabank Dakota | Estelline | South Dakota
Campbell County Bank, Inc | Herreid | South Dakota
Plains Commerce Bank | Hoven | South Dakota
First State Bank of Miller | Miller | South Dakota
CorTrust Bank, National Association | Mitchell | South Dakota
American State Bank | Oldham | South Dakota
American State Bank of Pierre | Pierre | South Dakota
Farmers and Merchants State Bank | Plankinton | South Dakota
First Premier Bank | Sioux Falls | South Dakota
The First Western Bank Sturgis | Sturgis | South Dakota
Commercial State Bank | Wagner | South Dakota
The First Western Bank | Wall | South Dakota
Federal Home Loan Bank of Dallas—District 9
Elk Horn Bank & Trust Company | Arkadelphia | Arkansas
Merchants and Farmers Bank | Dumas | Arkansas
Planters & Merchants Bank | Gillett | Arkansas
Calhoun County Bank | Hampton | Arkansas
Community First Bank | Harrison | Arkansas
Pulaski Bank & Trust Company | Little Rock | Arkansas
One Bank & Trust, N.A | Little Rock | Arkansas
Farmers Bank & Trust Company | Magnolia | Arkansas
Union Bank and Trust Company | Monticello | Arkansas
Priority Bank | Ozark | Arkansas
United Bank | Springdale | Arkansas
Farmers & Merchants Bank | Stuttgart | Arkansas
Abbeville Building & Loan | Abbeville | Louisiana
United Community Bank | Gonzales | Louisiana
Central Progressive Bank | Lacombe | Louisiana
The Union Bank | Marksville | Louisiana
Iberia Bank | New Iberia | Louisiana
Crescent Bank & Trust | New Orleans | Louisiana
Fidelity Homestead Association | New Orleans | Louisiana
First Financial Bank & Trust | Plaquemine | Louisiana
Citizens Bank & Trust Company | Plaquemine | Louisiana
Community Trust Bank | Ruston | Louisiana
Bank of Zachary | Zachary | Louisiana
Magnolia State Bank | Bay Springs | Mississippi
BankFirst Financial Services | Columbus | Mississippi
State Bank & Trust Company | Greenwood | Mississippi
Grand Bank for Savings, fsb | Hattiesburg | Mississippi
The First, A National Banking Association | Hattiesburg | Mississippi
Trustmark National Bank | Jackson | Mississippi
OmniBank | Jackson | Mississippi
Bank of New Albany | New Albany | Mississippi
Bank of Okolona | Okoloona | Mississippi
First Federal Savings & Loan | Pascagoula | Mississippi
Bank of Yazoo City | Yazoo City | Mississippi
Union Savings Bank | Albuquerque | New Mexico
Western Bank of Clovis | Clovis | New Mexico
Citizens Bank of Las Cruces | Las Cruces | New Mexico
The Bank of Las Vegas | Las Vegas | New Mexico
Century Bank, F.S.B | Santa Fe | New Mexico
IBM Texas Employees Federal Credit Union | Austin | Texas
Franklin Bank, SSB | Austin | Texas
Lamar Bank | Beaumont | Texas
The First National Bank of Beeville | Beeville | Texas
Bonham State Bank | Bonham | Texas
Shelby Savings Bank, ssb | Center | Texas
Chappell Hill Bank | Chappell Hill | Texas
Charter Bank | Corpus Christi | Texas
First Security State Bank | Cranfills Gap | Texas
First National Bank of Crockett | Crockett | Texas
First National Bank in Dalhart | Dalhart | Texas
Inwood National Bank | Dallas | Texas
Prosperity Bank | El Campo | Texas
First Command Bank | Fort Worth | Texas
Happy State Bank | Happy | Texas
Henderson Federal Savings Bank | Henderson | Texas
Encore Bank | Houston | Texas
State Bank | La Grange | Texas
Spring Hill State Bank | Longview | Texas
Angelina Savings Bank, FSB | Lufkin | Texas
Northeast National Bank | Mesquite | Texas
Guaranty Bond Bank | Mt. Pleasant | Texas
Olympic Savings, S.S.B | Refugio | Texas
First Community Bank San Antonio, NA | San Antonio | Texas
First State Bank | Stratford | Texas
Alliance Bank | Sulphur Springs | Texas
First State Bank Central Texas | Temple | Texas
First Federal Bank Texas | Tyler | Texas
The First National Bank of Weatherford | Weatherford | Texas
Federal Home Loan Bank of Topeka—District 10
Valley Bank & Trust Company | Brighton | Colorado
Farmers State Bank of Calhan | Calhan | Colorado
Castle Rock Bank | Castle Rock | Colorado
Colorado Capital Bank | Castle Rock | Colorado
FirstBank of Colorado Springs | Colorado Springs | Colorado
First National Bank of Durango | Durango | Colorado
High Plains Bank | Flagler | Colorado
Morgan Federal Bank | Fort Morgan | Colorado
Colorado Federal Savings Bank | Greenwood Village | Colorado
First National Bank in Lamar | Lamar | Colorado
Colorado East Bank & Trust | Lamar | Colorado
The First National Bank of Anthony | Anthony | Kansas
Peoples Exchange Bank | Belleville | Kansas
Guaranty State Bank & Trust Company | Beloit | Kansas
Caldwell State Bank | Caldwell | Kansas
The Elk State Bank | Clyde | Kansas
Citizens Bank NA | Fort Scott | Kansas
Central Bank and Trust Company | Hutchinson | Kansas
Inter-State FS&LA of Kansas City | Kansas City | Kansas
Kanza Bank | Kingman | Kansas
Citizens Savings and Loan Association, fsb | Leavenworth | Kansas
First State Bank | Norton | Kansas
First FS&LA of Olathe | Olathe | Kansas
First Option Bank | Osawatomie | Kansas
Valley State Bank | Roeland Park | Kansas
The Roxbury Bank | Roxbury | Kansas
Thunder Bank | Sylvan Grove | Kansas
The Columbian Bank and Trust Company | Topeka | Kansas
First National Bank of Ainsworth | Ainsworth | Nebraska
Community Bank | Alma | Nebraska
Auburn State Bank | Auburn | Nebraska
Bruning State Bank | Bruning | Nebraska
Butte State Bank | Butte | Nebraska
South Central State Bank | Campbell | Nebraska
First National Bank & Trust Company | Columbus | Nebraska
Cedar Security Bank | Fordyce | Nebraska
City Bank & Trust Company | Lincoln | Nebraska
Security Home Bank | Malmo | Nebraska
Security National Bank of Omaha | Omaha | Nebraska
Pinnacle Bank | Papillion | Nebraska
Horizon Bank | Waverly | Nebraska
First National Bank & Trust Company of Ardmore | Ardmore | Oklahoma
Citizens Security Bank & Trust | Bixby | Oklahoma
Chickasha Bank and Trust Company | Chickasha | Oklahoma
First Bank & Trust Company | Clinton | Oklahoma
First Texoma National Bank | Durant | Oklahoma
The First Bank of Haskell | Haskell | Oklahoma
Republic Bank & Trust | Norman | Oklahoma
First National Bank of Oklahoma | Oklahoma City | Oklahoma
Lakeside State Bank | Oologah | Oklahoma
First American Bank | Purcell | Oklahoma
Sulphur Community Bank | Sulphur | Oklahoma
Federal Home Loan Bank of San Francisco—District 11
California National Bank | Beverly Hills | California
Xerox Federal Credit Union | El Segundo | California
First Commerce Bank | Encino | California
Fremont Bank | Fremont | California
Commercial Capital Bank, F.S.B | Irvine | California
American First Credit Union | La Habra | California
International City Bank | Long Beach | California
National Bank of California | Los Angeles | California
Preferred Bank | Los Angeles | California
The Vintage Bank | Napa | California
Oak Valley Community Bank | Oakdale | California
Palm Desert National Bank | Palm Desert | California
Greater Bay Bank, N.A | Palo Alto | California
Malaga Bank, S.S.B | Palos Verdes Estates | California
PFF Bank & Trust | Pomona | California
North Valley Bank | Redding | California
Summit State Bank | Rohnert Park | California
1st Pacific Bank of California | San Diego | California
California Savings Bank | San Francisco | California
Temecula Valley Bank, NA | Temecula | California
Chinatrust Bank (U.S.A.) | Torrance | California
Federal Home Loan Bank of Seattle—District 12
Northrim Bank | Anchorage | Alaska
Northern Schools Federal Credit Union | Fairbanks | Alaska
BankPacific, Ltd. | Hagatna | Guam
Hawaii State Federal Credit Union | Honolulu | Hawaii
Finance Factors, Limited | Honolulu | Hawaii
Mountain West Bank | Coeur D'Alene | Idaho
The Bank of Commerce | Idaho Falls | Idaho
Ireland Bank | Malad | Idaho
First Federal Savings Bank of Twin Falls | Twin Falls | Idaho
United Banks, N.A | Absarokee | Montana
Pioneer Federal Savings & Loan Association | Dillon | Montana
Pacific Continental Bank | Eugene | Oregon
First Federal | McMinnville | Oregon
Albina Community Bank | Portland | Oregon
Community First Bank | Prineville | Oregon
Bank of American Fork | American Fork | Utah
Home Savings Bank | Salt Lake City | Utah
Trans West Credit Union | Salt Lake City | Utah
Horizon Bank | Bellingham | Washington
Bank of Fairfield | Fairfield | Washington
Timberland Bank | Hoquiam | Washington
Kitsap Bank | Port Orchard | Washington
Valley Bank | Puyallup | Washington
First Savings Bank of Renton | Renton | Washington
Washington First International Bank | Seattle | Washington
HomeStreet Bank | Seattle | Washington
The Bank of Star Valley | Afton | Wyoming
Oregon Trail Bank | Guernsey | Wyoming
Pinnacle Bank—Wyoming | Torrington | Wyoming
First National Bank | Torrington | Wyoming

II. Public Comments

To encourage the submission of public comments on the community support performance of Bank members, on or before October 27, 2006, each Bank will notify its Advisory Council and nonprofit housing developers, community groups, and other interested parties in its district of the members selected for community support review in the 2006-07 third quarter review cycle. 12 CFR 944.2(b)(2)(ii). In reviewing a member for community support compliance, the Finance Board will consider any public comments it has received concerning the member. 12 CFR 944.2(d). To ensure consideration by the Finance Board, comments concerning the community support performance of members selected for the 2006-07 third quarter review cycle must be delivered to the Finance Board on or before the November 24, 2006 deadline for submission of Community Support Statements.

John P. Kennedy,
General Counsel.

[FR Doc. E6-16732 Filed 10-12-06; 8:45 am]

BILLING CODE 6725-01-P